ENVIRONMENTAL PROTECTION AGENCY

EPA-HQ-OPPT-2006-0683; FRL-8068-8

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from June 16, 2006 to July 28, 2006, consists of the PMNs and TMEs, both pending or expired, and the notices of commencement to manufacture a new chemical that the Agency has received under TSCA section 5 during this time period.

DATES: Comments identified by the specific PMN number or TME number, must be received on or before September 13, 2006.

ADDRESSES: Submit your comments, identified by docket identification (ID) no. EPA-HQ-OPPT-2006-0683, by one of the following methods.

• http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO, EPA East Bldg., Rm. 6428, 1201 Constitution Ave., NW., Washington, DC. Attention: Docket ID number EPA-HQ-OPPT-2006-0683. The DCO is open from 8 a.m. to 4 p.m., Monday through Friday, excluding legal holidays. The telephone number for the DCO is (202) 564-8930. Such deliveries are only accepted during the Docket's normal hours of operation, and special arrangements should be made for deliveries of boxed information.

• Instructions: Direct your comments to docket ID number EPA-HQ-OPPT-2006-0683. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov website is an “anonymous access” systems, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, i.e., CBI or other information whose disclosure is restricted by statute. Certain other material, such as copyrighted material, is not placed on the Internet and will be publicly available only in hard copy form. Publicly available docket materials are available electronically through regulations.gov or in hard copy at the OPPT Docket, EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions - The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from June 16, 2006 to July 28, 2006, consists of the PMNs and TMEs, both pending or expired, and the notices of commencement to manufacture a new chemical that the Agency has received under TSCA section 5 during this time period.

III. Receipt and Status Report for PMNs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 78 Premanufacture Notices Received From: 06/16/06 to 07/28/06
Case No. | Received Date | Projected Notice End Date | Manufacturer/Importer | Use | Chemical
P-06-0616 | 06/15/06 | 09/12/06 | PPG Aerospace PRC-desoto | (S) Reactive diluent/binder in aerospace sealants | (G) Modified triethylene glycol dithiol
P-06-0617 | 06/19/06 | 09/16/06 | CBI | (G) Destructive use | (G) Brominated polyaromatic compound
P-06-0618 | 06/20/06 | 09/17/06 | CBI | (G) Highly dispersive powdered emulsifier component | (G) Salts of modified tall-oil fatty acid amidoamines
P-06-0619 | 06/20/06 | 09/17/06 | CBI | (G) Highly dispersive powdered emulsifier component | (G) Salts of modified tall-oil fatty acids
P-06-0620 | 06/26/06 | 09/23/06 | Oleon Americas, Inc. | (G) Industrial hydraulic fluid | (S) Fatty acids, C8-10, tetraesters with bis[2,2-bis(hydroxymethyl)butyl] adipate
P-06-0621 | 06/27/06 | 09/24/06 | CBI | (S) Base resin for ultra violet light and electron beam curable formulations | (G) Organic acid, polymer with 1,6-hexanediol and 5-isocyanato-1-(isocyanatomethyl)-1,3,3-trimethylcyclohexane, 2-hydroxyethyl acrylate-blocked
P-06-0622 | 06/27/06 | 09/24/06 | Huntsman Corporation | (S) Intermediate monomer for polymer synthesis | (S) 1,2-ethanediol, monocarbamate
P-06-0623 | 06/28/06 | 09/25/06 | PPG Industries, Inc. | (G) Component of an industrial coating | (G) Aspartic acid, N,N′-(iminodi-alkanediyl)bis, tetraalkane ester
P-06-0624 | 06/28/06 | 09/25/06 | PPG Industries, Inc. | (G) Component of an industrial coating | (G) Aspartic acid, N,N,′-(iminodi-alkanediyl)bis, tetraalkane ester
P-06-0625 | 06/23/06 | 09/20/06 | CBI | (S) Adhesion promotor for polyurethane | (G) Isocyanate-terminated alkyl alkoxy silane
P-06-0626 | 06/28/06 | 09/25/06 | Forbo adhesives, LLC | (G) Hot melt adhesive | (G) Isocyanate functional polyester urethane polymer
P-06-0627 | 06/28/06 | 09/25/06 | Hi-tech Color, Inc. | (G) Additive in waterbase inks | (G) Styrene acryl polymer
P-06-0628 | 06/28/06 | 09/25/06 | Cytec Surface Specialties Inc. | (S) Ultra violet/electron beam binder resin for coatings | (G) Alkyl diisocyanate, homopolymer, substituted alkenoic acid and heteromonocyclic homopolymer and substituted polyethylene glycol
P-06-0629 | 06/29/06 | 09/26/06 | CBI | (G) Coating component | (G) Polymer of styrene, alkyl methacrylates, and substituted methacrylates
P-06-0630 | 06/29/06 | 09/26/06 | CBI | (G) Coating component | (G) Mixed metal oxide complex
P-06-0631 | 06/28/06 | 09/25/06 | CBI | (G) Open non-dispersive (resin) | (G) Aromatic thermoplastic polyurethane
P-06-0632 | 06/30/06 | 09/27/06 | CBI | (G) Processing aid for vegetable oil refining | (S) Phospholipase c
P-06-0633 | 06/30/06 | 09/27/06 | CBI | (G) Antioxidant | (G) Ncs 1: Substituted phenol
P-06-0634 | 06/30/06 | 09/27/06 | CBI | (G) Antioxidant | (G) Ncs 2: Substituted phenol
P-06-0635 | 07/03/06 | 09/30/06 | CBI | (S) Ingredient in fragrance compound | (S) 6,10-dodecadien-1-ol, 3,7,11-trimethyl-
P-06-0636 | 07/03/06 | 09/30/06 | CBI | (S) Curing agent for epoxy coating systems | (G) Polymer of unsaturated fatty acids with phenylalkylene polyamine, epoxy resin and polyether polyamine
P-06-0637 | 07/03/06 | 09/30/06 | CBI | (S) Aromatic polyester used as a component in photoresist manufacture | (G) Aromatic polyester
P-06-0638 | 07/05/06 | 10/02/06 | CBI | (S) Crosslinked polyester used as a component in photoresist manufacture. | (G) Crosslinked cyclic polyester
P-06-0639 | 07/05/06 | 10/02/06 | Alberdingk Boley Inc. | (G) Industrial coatings | (G) Castor oil, dehydrated polymer with adipic acid, ethylenediamine, 1,6-hexanediol, 3-hydroxy-2-(hydroxymethyl)-2-methylpropanoic acid, 1,1′-methylenebis[4-isocyanatocyclohexane], neopentyl glycol and polyethylene glycol mono[2,2-bis(hydroxyalkyl)alkyl] ether, compound with triethylamine
P-06-0640 | 07/05/06 | 10/02/06 | CBI | (G) Masking aid | (G) Isocyanate terminated adduct of polymeric isocyanate with an amine silane
P-06-0641 | 07/06/06 | 10/03/06 | Para-chem, Inc./Standard Division | (G) Binder | (G) Acrylate, polymers with poly(vinyl alcohol)
P-06-0642 | 07/06/06 | 10/03/06 | Para-Chem, Inc./Standard Division | (G) Binder | (G) Acrylate, polymers with poly(vinyl alcohol)
P-06-0643 | 07/06/06 | 10/03/06 | Para-Chem, Inc./ Standard Division | (G) Binder | (G) Acrylate, polymers with poly(vinyl alcohol)
P-06-0644 | 07/07/06 | 10/04/06 | Boulder Scientific Company | (S) Chemical intermediate | (S) Magnesium, bromo(pentafluorophenyl)-
P-06-0645 | 07/07/06 | 10/04/06 | International Flavors and Fragrances, Inc. | (S) Raw material for use in fragrances for soaps, detergents, cleaners and other household products | (S) 3-decen-5-one, 4-methyl-, (3e)-
P-06-0646 | 07/07/06 | 10/04/06 | CBI | (G) Industrial coatings binder | (G) Fatty acids, alkyl- unsaturated, dimers, reaction products with bisphenol a-bisphenol a diglycidyl ether polymer and polyethylenepolyamines
P-06-0647 | 07/07/06 | 10/04/06 | CBI | (G) Colorant | (G) Sulfonated azo-naphthalene derivative, salt
P-06-0648 | 07/07/06 | 10/04/06 | CBI | (G) Colorant | (G) Sulfonated azo-naphthalene derivative, salt
P-06-0649 | 07/07/06 | 10/04/06 | CBI | (G) Colorant | (G) Sulfonated azo-naphthalene derivative, salt
P-06-0650 | 07/07/06 | 10/04/06 | CBI | (G) Colorant | (G) Sulfonated azo-naphthalene derivative, salt
P-06-0651 | 07/10/06 | 10/07/06 | CBI | (G) Paint additive | (G) Acrylic polymer
P-06-0652 | 07/10/06 | 10/07/06 | CBI | (G) Paint additive | (G) Acrylic polymer
P-06-0653 | 07/10/06 | 10/07/06 | CBI | (G) Paint additive | (G) Acrylic polymer
P-06-0654 | 07/10/06 | 10/07/06 | CBI | (G) Paint additive | (G) Acrylic polymer
P-06-0655 | 07/11/06 | 10/08/06 | CBI | (G) Synthetic lubricant base stock | (G) Polyol esters
P-06-0656 | 07/11/06 | 10/08/06 | CBI | (G) Synthetic lubricant base stock | (G) Polyol esters
P-06-0657 | 07/11/06 | 10/08/06 | CBI | (S) Coatings application | (G) Alkyl acetoacetate resin
P-06-0658 | 07/12/06 | 10/09/06 | Cytec Surface Specialties Inc. | (S) Flame retardant additive for surface coatings | (G) Phosphine oxide ester
P-06-0659 | 07/13/06 | 10/10/06 | Dow Agrosciences | (S) Intermediate | (G) Macrocyclic lactone derivative salt
P-06-0660 | 07/13/06 | 10/10/06 | Dow Agrosciences | (S) Intermediate | (G) Macrocyclic lactone derivative
P-06-0661 | 07/13/06 | 10/10/06 | CBI | (G) Industrial adhesive primer component for open, non-dispersive use | (G) Naphthalenesulfonic acid salt, polymer with resorcinol, formaldehyde and phenol
P-06-0662 | 07/14/06 | 10/11/06 | CBI | (G) Open non-dispersive (polyurethane lacquer) | (G) Polyester polyurethane
P-06-0663 | 07/14/06 | 10/11/06 | CBI | (G) Open non-dispersive (coating) | (G) Aliphatic polyester - polyurethane
P-06-0664 | 07/14/06 | 10/11/06 | CBI | (G) Open air non-dispersive use | (G) Polyester/urethane acrylate oligomer
P-06-0665 | 07/14/06 | 10/11/06 | PPG Industries, Inc. | (G) Component of an industrial coating | (G) Alkenedioic acid, dialkyl ester, reaction products with polyaminocarbomonocycle and alkenoic acid alkyl ester
P-06-0666 | 07/14/06 | 10/11/06 | PPG Industries, Inc. | (G) Component of an industrial coating | (G) Alkenedioic acid, dialkyl ester, reaction products with polyaminocarbomonocycle and alkenoic acid alkyl ester
P-06-0667 | 07/14/06 | 10/11/06 | PPG Industries, Inc. | (G) Component of an industrial coating | (G) Alkenedioic acid, dialkyl ester, reaction products with polyaminocarbomonocycle and alkenoic acid alkyl ester
P-06-0668 | 07/14/06 | 10/11/06 | PG Industries, Inc. | (G) Component of an industrial coating | (G) Alkenedioic acid, dialkyl ester, reaction products with polyaminocarbomonocycle and alkenoic acid alkyl ester
P-06-0669 | 07/14/06 | 10/11/06 | PPG Industries, Inc. | (G) Component of an industrial coating | (G) Alkenedioic acid, dialkyl ester, reaction products with polyaminocarbomonocycle and alkenoic acid alkyl ester
P-06-0670 | 07/14/06 | 10/11/06 | PPG Industries, Inc. | (G) Component of an industrial coating | (G) Alkenedioic acid, dialkyl ester, reaction products with polyaminocarbomonocycle and alkenoic acid alkyl ester
P-06-0671 | 07/14/06 | 10/11/06 | CBI | (G) Spacer in electronic parts | (S) 2-propenoic acid, 1,6-hexanediyl ester, polymers with 2-hydroxyethyl acrylate-blocked hydroxy-terminated polybutadiene-2,4-tdi polymer
P-06-0672 | 07/14/06 | 10/11/06 | CBI | (G) Spacer in electronic parts | (S) Poly(oxy-1,4-butanediyl), .alpha.-(1-oxo-2-propenyl)-.omega.-[(1-oxo-2-propenyl)oxy]-, polymer with diethenylbenzene and ethenylethylbenzene
P-06-0673 | 07/17/06 | 10/14/06 | CBI | (G) Open non-dispersive uses | (G) Silylated polymer
P-06-0674 | 07/19/06 | 10/16/06 | CBI | (G) Polymer used to improve scratch resistance of thermoplastics open/non-dispersive use | (G) Alkene acrylate copolymer
P-06-0675 | 07/20/06 | 10/17/06 | CBI | (S) Hotmelt adhesive for textile/clothes applications | (G) Aliphatic dicarboxylic acid polymer with alkanediamine and lactam
P-06-0676 | 07/20/06 | 10/17/06 | Sasol North America Inc. | (S) Mineral processing (flotation aid) - substitute for diesel; oil recovery (drilling and field fluids) - substitute for diesel | (S) Alcohols, C2-33, manufacture. of, by products from, overheads
P-06-0677 | 07/21/06 | 10/18/06 | Dupont Company | (G) Film resin | (G) Ethylene interpolymer
P-06-0678 | 07/21/06 | 10/18/06 | Zeon Chemicals L.P. | (S) Automotive seals and gaskets | (G) Acrylate copolymer
P-06-0679 | 07/21/06 | 10/18/06 | CBI | (G) Ink additive | (G) 1,3-benzenedisulfonic acid, 4-[[3-methyl-1-(3-sulfobenzoyl)heteropolycyclel]amino]-, triammonium salt
P-06-0680 | 07/21/06 | 10/18/06 | CBI | (G) Printing ink additive | (G) Polyurethane polymer
P-06-0681 | 07/24/06 | 10/21/06 | CBI | (G) An open non-dispersive use | (G) Bisphenol a type epoxy resin
P-06-0682 | 07/18/06 | 10/15/06 | CBI | (G) Destructive use | (G) Surface modified magnesium hydroxide
P-06-0683 | 07/25/06 | 10/22/06 | Henkel | (S) Hot melt and molding adhesives | (S) Dodecanedioic acid, polymer with 1,6-hexanediamine and piperazine
P-06-0684 | 07/25/06 | 10/22/06 | Henkel | (S) Hot melt and molding adhesives | (S) Decanedioic acid, polymer with 1,6-hexanediamine and piperazine
P-06-0685 | 07/25/06 | 10/22/06 | Henkel | (S) Hot melt and molding adhesives | (S) Fatty acids, C18-unsaturated, dimers, hydrogenated, polymers with ethylenediamine, hexamethylenediamine and tetradecanedioic acid
P-06-0686 | 07/25/06 | 10/22/06 | Henkel | (S) Hot melt and molding adhesives | (S) Fatty acids, C18-unsaturated, dimers, hydrogenated, polymers with ethylenediamine, piperazine, polypropylene glycol diamine and sebacic acid
P-06-0687 | 07/25/06 | 10/22/06 | Henkel | (S) Hot melt and molding adhesives | (S) Fatty acids, C18-unsaturated, dimers, polymers with adipic acid, hexamethylenediamine, polypropylene glycol diamine and tall-oil fatty acids
P-06-0688 | 07/25/06 | 10/22/06 | J.H.Calo Company | (S) Polyester resin for 2 component polyurethane systems | (S) Hexanedioic acid, polymer with 2,2-dimethyl-1,3-propanediol, 1,4-cyclohexanedimethanol, hexahydro-1,3-isobenzofurandione and 1,2-propanediol
P-06-0689 | 07/25/06 | 10/22/06 | Huntsman International, LLC | (S) Exhaust dyeing of cellulosic fabric | (G) Alkyl amino substituted triazine amino substituted benzenesulfonic acid reaction product with naphthalenesulfonato azo substituted phenyl azo substituted benzenedisulfonic acid cooper compound
P-06-0690 | 07/25/06 | 10/22/06 | CBI | (G) Open non-dispersive thermoplastic resin | (G) Diphenylmethane isocyanate polyester elastomer
P-06-0691 | 07/26/06 | 10/23/06 | CBI | (G) Chemical intermediate | (G) Derivatized triglycerides
P-06-0692 | 07/26/06 | 10/23/06 | CBI | (G) Chemical intermediate | (G) Derivatized hydroxylated triglycerides
P-06-0693 | 07/26/06 | 10/23/06 | CBI | (G) Crude oil production chemical | (G) Alkyl dimethyl betaine

In Table II of this unit, EPA provides the following information (to the extent that such information is not claimed as CBI) on the TME received:

I. 1 Test Marketing Exemption Notice Received From: 06/16/06 to 07/28/06
Case No. | Received Date | Projected Notice End Date | Manufacturer/Importer | Use | Chemical
T-06-0008 | 07/12/06 | 08/25/06 | Cytec Surface Specialties Inc. | (S) Flame retardant additive for surface coatings | (G) Phosphine oxide ester

In Table III of this unit, EPA provides the following information (to the extent that such information is not claimed as CBI) on the Notices of Commencement to manufacture received:

III. 57 Notices of Commencement From: 06/16/06 to 07/28/06
Case No. | Received Date | Commencement Notice End Date | Chemical
P-01-0694 | 07/14/06 | 07/10/06 | (G) Bis(substituted)-1,3-benzenediamine
P-01-0855 | 07/18/06 | 07/05/06 | (G) Substituted vinylether, ethoxylated, propoxylated
P-01-0866 | 06/28/06 | 06/14/06 | (G) Ethylene amine aromatic epoxide adduct
P-02-1049 | 07/10/06 | 06/21/06 | (G) Saturated and unsaturated fatty acids, esters with a polyalcohol
P-03-0546 | 07/03/06 | 05/26/06 | (G) Amine functional epoxy curing agent
P-04-0540 | 07/25/06 | 07/17/06 | (S) 2,4-nonanedione, 3-methyl-
P-04-0541 | 07/25/06 | 07/20/06 | (S) 3-hexene, 1,1′,1′′-[ethylidynetris(oxy)]tris-, (3z,3′z,3′′z)-
P-04-0585 | 07/25/06 | 07/01/06 | (G) Substituted butyl ethyl magnesium
P-04-0640 | 04/26/06 | 04/08/06 | (G) Multifunctional polycarbodiimide
P-04-0830 | 07/11/06 | 06/21/06 | (G) Alkoxysilane modified silica
P-04-0834 | 06/22/06 | 05/24/06 | (G) Hdi biuret, hydroxyethyl methacrylate prepolymer
P-04-0882 | 07/24/06 | 07/12/06 | (G) Quaternary amino modified silicone-polyether copolymer
P-05-0116 | 07/10/06 | 07/05/06 | (G) Reaction product of alkylcarboxylic acid, substituted alkenyl amine with aromatic anhydride acetate salts
P-05-0358 | 07/21/06 | 07/14/06 | (G) Polycarbodiimide
P-05-0416 | 06/23/06 | 06/07/06 | (G) Acrylic polymer
P-05-0483 | 07/03/06 | 06/23/06 | (G) Reaction products with polyoxypropylenediamine and alkyl ketone
P-05-0496 | 07/05/06 | 06/07/06 | (G) Cyclohexane, 5-isocyanato-1-(isocyanatomethyl)-1,3,3-trimethyl-, polymers with hydroxy-terminated saturated hydrocarbon chain, 2-hydroxyethyl acrylate-blocked
P-05-0500 | 07/05/06 | 06/21/06 | (G) Thermochemical mechanical processed maize germ
P-05-0687 | 06/21/06 | 06/15/06 | (G) Siloxane coated alumina nanoparticles
P-05-0706 | 07/07/06 | 06/15/06 | (G) Isocyanate prepolymer
P-05-0707 | 07/24/06 | 06/19/06 | (G) Halogenated N,N,N-trialkyl-alkylamminium, N-aminocarbonylalkenyl
P-05-0724 | 07/11/06 | 06/16/06 | (G) Quino[2,3-b]acridine-7,14-dione, 5,12-dihydro-2,9-dimethyl-, 4-[[2-(sulfooxy)ethyl]substituted]phenyl derivates, sodium salts
P-05-0725 | 07/18/06 | 07/08/06 | (G) Butanamide, 2-[(2-methoxy-4-nitrophenyl)azo]-n-(2-methoxyphenyl)-3-oxo-,4-[[2-(sulfooxy)ethyl]substituted]phenyl derivates, sodium salts.
P-05-0792 | 07/26/06 | 07/12/06 | (G) Substituted benzenediamine
P-05-0814 | 07/10/06 | 06/14/06 | (S) Tall-oil pitch, sapond., neutralized, sterol-low, ammonium salts
P-05-0816 | 07/10/06 | 06/15/06 | (S) Tall-oil pitch, sapond., neutralized, sterol-low, sodium salts
P-06-0004 | 07/18/06 | 07/12/06 | (G) Butanamide, 2-[(2-methoxy-4-nitrophenyl)azo]-n-(2-methoxyphenyl)-3-oxo-, 4-[(17-substituted-3,6,9,12,15-pentaazaheptadec-1-yl)substituted]phenyl derivates
P-06-0007 | 07/11/06 | 06/23/06 | (G) Quino[2,3-b]acridine-7,14-dione, 5,12-dihydro-2,9-dimethyl-, 4-[(17-substituted-3,6,9,12,15-pentaazaheptadec-1-yl)substituted]phenyl derivates
P-06-0012 | 07/19/06 | 06/20/06 | (G) Polyurethane derivative
P-06-0077 | 06/20/06 | 06/04/06 | (G) Salt of amine with aromatic acid
P-06-0078 | 07/20/06 | 06/26/06 | (G) Dimethylterephthalate, polymer with mixed glycols, ester with a polyethylene glycol ether
P-06-0101 | 07/05/06 | 05/22/06 | (G) Acrylic solution polymer
P-06-0165 | 07/14/06 | 06/30/06 | (G) Halogenated aromatic anhydride copolymer
P-06-0177 | 07/13/06 | 07/06/06 | (G) Isocyanate functional polyester polyether urethane polymer
P-06-0185 | 06/22/06 | 05/16/06 | (G) Substituted polycyclic-acid, ((((halo-((substituted)phenyl)amino) -heterocycle)amino-sulfophenyl)azo)-hydroxy-alkyl-substituted-, sodium salt
P-06-0230 | 06/21/06 | 06/06/06 | (G) Substituted aniline
P-06-0246 | 07/05/06 | 06/14/06 | (G) Modified ketone resin, sodium salt
P-06-0260 | 06/28/06 | 06/09/06 | (G) Naphthalenesulfonic acid azo substituted naphthyl amino substituted triazine amino phenyl sulfonyl alkyl salt compound
P-06-0273 | 07/10/06 | 06/28/06 | (S) Fatty acids, soya, esters with polyethylene glycol mono-me ether
P-06-0306 | 07/05/06 | 06/15/06 | (G) Aqueous polyurethane dispersion
P-06-0307 | 07/18/06 | 07/11/06 | (G) Polyester urethane
P-06-0308 | 07/07/06 | 06/20/06 | (G) Polyester urethane
P-06-0309 | 07/19/06 | 06/30/06 | (S) 1,3-benzenedicarboxylic acid, polymer with 2,2-dimethyl-1,3-propanediol, 1,2-ethanediol, 2,5-furandione and 1,2-propanediol, phenylmethyl ester
P-06-0314 | 07/25/06 | 07/14/06 | (G) Polyoxyalkylene siloxane
P-06-0316 | 07/10/06 | 06/27/06 | (G) Aluminum trihydrate surface treated
P-06-0329 | 07/05/06 | 06/24/06 | (G) Fatty acid glycol ester
P-06-0331 | 07/07/06 | 05/31/06 | (G) Silicone polyether modified polyester polyurethane.
P-06-0335 | 06/28/06 | 06/23/06 | (G) Naphthalenesulfonic acid azo substituted naphthalenesulfonic acid amino substituted triazine amino phenyl sulfonyl compound
P-06-0338 | 07/13/06 | 06/26/06 | (G) Condensation polymerized silane functionalized aliphatic amine
P-06-0350 | 07/25/06 | 06/26/06 | (G) Polyoxyalkylene ether
P-06-0377 | 07/18/06 | 06/29/06 | (S) Phosphonic acid, octyl-, monosodium salt
P-06-0378 | 07/18/06 | 06/29/06 | (S) Phosphonic acid, octyl-, disodium salt
P-06-0381 | 06/29/06 | 06/25/06 | (G) Sulfonyl phenyl amino substituted triazine naphthalenesulfonic acid azo phenyl hydroxyl naphthalene hydroxyl azo naphthalenesulfonic acid chromium compound
P-06-0387 | 07/24/06 | 07/06/06 | (G) 1,1-diacidsubstituted -2 -(4-aminophenyl) ethanol, monosodium salt
P-06-0441 | 07/24/06 | 07/17/06 | (G) Maleimide alkyl carboxylic acid
P-94-2125 | 07/10/06 | 07/05/95 | (G) Polyesteramide resin
P-99-1253 | 07/05/06 | 06/29/06 | (G) Polyamine adducts

List of Subjects

Environmental protection, Chemicals, Premanufacturer notices.

Dated: August 7, 2006.
Darryl S. Ballard,
Acting Director, Information Management Division, Office of Pollution Prevention and Toxics.

[FR Doc. E6-13285 Filed 8-11-06; 8:45 am]

BILLING CODE 6560-50-S